DEPARTMENT OF THE INTERIOR

National Park Service

Official Trail Marker for the Captain John Smith Chesapeake National Historic Trail

AGENCY: National Parks Service, Interior.

ACTION: Official Insignia, Designation.

Authority: National Trails System Act, 16 U.S.C. 124(a) and 1246(c) and Protection of Official Badges, insignia, etc. in 18 U.S.C. 701.

SUMMARY: This notice issues the official trail marker insignias of the Captain John Smith Chesapeake National Historic Trail. The insignia for this trail was completed in August 2008. The National Park Service has officially used an earlier version of this insignia since the trail was designated in 2006. It has been slightly redesigned since then so that lettering and framing match other National Trail system markers. The earlier design, which is still in use along the Trail, is also protected from unauthorized uses by this notice. This publication accomplishes the official designation of the insignias in use by the National Park Service.

SUPPLEMENTARY INFORMATION: The primary author of this document is John Maounis, Superintendent, Captain John Smith Chesapeake National Historic Trail. The insignias depicted below are prescribed as the official trail markers for the Captain John Smith Chesapeake National Historic Trail, administered by the National Park Service, Chesapeake Bay Office, Annapolis, Maryland. Authorization for use of these trail markers is controlled by the administrator of the Trail.

In making this prescription, notice is hereby given that whoever manufactures, sells or possesses these insignias or any colorable imitation thereof, or photographs or prints or in any other manner makes or executes any engraving, photograph or print, or impression in the likeness of these insignias, or any colorable imitation thereof, without written authorization from the United States Department of the Interior is subject to the penalty provisions of section 701 of Title 18 of the United States Code.

FOR FURTHER INFORMATION CONTACT: John Maounis, Captain John Smith Chesapeake National Historic Trail, National Park Service, 410 Severn Avenue, Suite 314, Annapolis, MD 21403, 410-260-2473.

Dated: May 13, 2010.
John Maounis,
Superintendent, Captain John Smith Chesapeake National Historic Trail.

[FR Doc. 2010-15725 Filed 6-28-10; 8:45 am]

BILLING CODE P